DEPARTMENT OF JUSTICE

Notice of Lodging Proposed Consent Decree

In accordance with Departmental Policy, 28 CFR 50.7, notice is hereby given that a proposed Consent Decree in United States v. Freeway Land Co., Civ. No. 07-1819-JO (D. Or.) was lodged with the United States District Court for the District of Oregon on March 27, 2008.

This proposed Consent Decree concerns a complaint filed by the United States against Freeway Land Company pursuant to Sections 301(a) and 309 of the Clean Water Act, 33 U.S.C. 1311(a) and 1319, to obtain injunctive relief from and to impose civil penalties against the Defendant for violating the Clean Water Act by discharging dredged or fill material into waters of the United States without a Clean Water Act Section 404 permit. The proposed Consent Decree resolves these allegations by requiring Defendant to pay a civil penalty. Additionally, the Corps is considering issuing an after-the-fact Clean Water Act Section 404 permit that would allow the dredged or fill material to remain in place, but would require wetland creation as mitigation. If the Corps denies the permit application, the proposed Decree requires Defendant to remove the dredged or fill material and restore the impacted area.

The Department of Justice will accept written comments relating to this proposed Consent Decree for thirty (30) days from the date of publication of this Notice. Please address comments to Michael B. Schon, United States Department of Justice, P.O. Box 23986, Washington, DC 20026-3986, and refer to United States v. Freeway Land Co., DJ No. 90-5-1-1-18205.

The proposed Consent Decree may be examined at the Clerk's Office, United States District Court for the District of Oregon, 740 Mark 0. Hatfield United States Courthouse, 1000 SW., Third Avenue, Portland, OR 97204-2802. In addition, the proposed Consent Decree may be viewed at http://www.usdoi.gov/enrd/Consent_Decrees.html.

Russell M. Young,
Assistant Chief, Environmental Defense Section, Environment & Natural Resources Division, U.S. Department of Justice.

[FR Doc. E8-7270 Filed 4-8-08; 8:45 am]

BILLING CODE 4410-15-M